DEPARTMENT OF COMMERCE

Bureau of the Census

[Docket Number 000410099-0099-01]

RIN 0607-ZA03

Expansion of Census Information Center Program

AGENCY: Bureau of the Census, Department of Commerce.

ACTION: Program solicitation.

SUMMARY: The purpose of this notice is to announce the expansion of the Census Information Center (CIC) Program, the community-based component of the Bureau of the Census' (Census Bureau's) Data Dissemination Network and to invite eligible organizations to submit a proposal to be considered for inclusion in the Program. The Census Bureau's Data Dissemination Network currently consists of 12 permanent Regional Offices, 1,800 state and local governmental organizations participating in the State Data Center Program, 1,400 public and university libraries designated as federal depository libraries, and 36 national, regional, and local nonprofit organizations participating in the CIC Program. The CICs tailor census data to local communities and the local groups they serve. They interpret and explain what census data mean for local communities and neighborhoods, and they increase awareness, education, and understanding of the value and uses of census data. For their participation in the CIC Program, CICs receive free access to a wide variety of Census Bureau products, information, and services, including training from Census Bureau staff. The Census Bureau currently has a Memorandum of Understanding (MOU) with five national, non-profit organizations to disseminate census information and data to underserved communities and populations.

We are seeking to add up to 60 organizations to the Program, subject to the availability of appropriations. The SUPPLEMENTARY INFORMATION section provides a detailed description of the CIC Program, eligibility, requirements, proposal format, content, submission instructions, review, evaluation, and notification processes.

DATES: Proposals must be received by June 30, 2000.

ADDRESSES: Submit proposals to Mr. Stanley J. Rolark, Chief, Customer Liaison Office, Census Bureau, 4700 Silver Hill Road, Room 3616, Federal Office Building 3, Washington, DC 20233.

FOR FURTHER INFORMATION CONTACT: Anyone requesting additional information about the CIC Program, or wanting to submit written statements or questions, may contact Ms. Barbara A. Harris, Program Administrator, Customer Liaison Office, Census Bureau, 4700 Silver Hill Road, Room 3620, Federal Office Building 3, Washington, DC 20233 (or via the Internet to <Barbara.A.Harris@ccmail.census.gov>).

SUPPLEMENTARY INFORMATION: This section provides a discussion of the following items for the CIC Program: eligibility; program description; program requirements; proposal format, content, submission instructions; and the review, evaluation and notification process.

A. Eligibility

National nonprofit organizations representing underserved communities are eligible to participate in the CIC Program. Some regional and local nonprofit organizations representing smaller population groups like American Indians and Alaska Natives and those representing minority serving institutions and local minority chambers of commerce are also eligible. Some of the types of organizations we are seeking to include are, but not limited to, minority serving colleges and universities, minority chambers of commerce, civil rights, social justice, social service, minority think tanks, research organizations, and organizations serving rural, children, and youth populations.

B. Census Information Center (CIC) Program Description

The CIC Program was started in 1988 to add a community-based component to the Census Bureau's Data Dissemination Network. The CICs play a crucial role in the Data Dissemination Network by providing access and understanding of the value and uses of census data in underserved communities and neighborhoods. The Census Bureau provides the CICs free access to a wide variety of data products, information, and services. CICs also receive training and technical support from Census Bureau staff. In return, the CICs interpret and explain what census data mean for local communities. The current CIC participants have used census data in areas such as program planning, planning and analysis of service areas and scope of services, public policy development and impact, business development, and race and ethnic related research projects. Current participants are the National Urban League, National Council of La Raza, William C. Velasquez Institute, the Asian and Pacific Islander American Health Forum, the Native American Public Telecommunications, and 31 local affiliated organizations.

The Customer Liaison Office (CLO) of the Census Bureau administers the CIC Program. All participants must sign a MOU with the Census Bureau. The MOU lists the specific services offered by the Census Bureau and the specific conditions that each CIC must meet.

C. CIC Program Requirements

1. The Census Bureau provides the following services to a CIC through the CIC Program:

• Free access to a wide variety of Census Bureau products, information, and services for use in data access and dissemination activities. These products include, but are not limited to, printed reports, CD-ROM products, electronic files, Internet-based products (through the American Factfinder), subscriptions, documentation, guides, catalogs, statistical compendia, indexes, maps, mapping databases, and other reference materials. This does not include access to confidential data or custom tabulations. ]

• Training and technical support on Census Bureau data products and services. This includes, but is not limited to, training at Census Bureau headquarters, training sponsored by Census Bureau regional offices, or training via available technologies, such as teleconferencing, video presentations, and other training materials.

• Training and instruction on the use of the Census Bureau's web site and Internet delivery system, the American Factfinder.

• Periodic and timely communications with CICs through e-mail, written correspondence, telephone conference calls, meetings, site visits, annual conference, and a Listserv maintained by the Census Bureau.

• Tools (e.g. brochures, booklets, directories, etc.) developed to assist in marketing the services of the CICs.

• A web site that provides information about the CIC Program and provides links to the web site of the CICs.

• A log for CICs to keep records of their CIC activities.

2. A CIC provides the following services to the community through the CIC Program:

• Access to census statistics, data, and reports to underserved communities and data users who might not have access through the other components of the Census Bureau's Data Dissemination Network. CIC's provide access through media such as print, fax, newsletters, telephone, e-mail, community workshops and press releases.

• Census data packaged in ways (e.g. fact sheets and briefs) that make the data clearer and more appropriate for community and local use. They also will help local data users with limited knowledge of census data find the right data for their needs.

• Clear, nontechnical interpretation and explanation of what census data mean for local communities and neighborhoods.

• Technical assistance and consultation on the Census Bureau data products to data users and underserved populations by telephone, e-mail, fax, community workshops, etc.

• Reasonable walk-in access to census information (optional). Some organizations may not be set up for “walk-in” clients.

3. A CIC provides the following items/services to the Census Bureau through the CIC Program:

• Copies of any CIC reports, fact sheets, briefs, and articles produced using census data.

• An annual report of activities, including an accounting of the recipients and users of these products.

• A record of inquires addressed.

• Maintains a web site that highlights the work of their CIC Program and links to Census Bureau web site.

• Participates in an annual CIC conference and Census Bureau sponsored training.

4. The Census Bureau will conduct the following monitoring and evaluation activities under the CIC Program. The Census Bureau will:

• Make periodic site visits to CICs (budget permitting) as a means of evaluating how well CICs are meeting program requirements. CICs will provide an annual report with measurable evidence that they are meeting program requirements. This includes providing copies of reports, fact sheets, brief, articles, etc., produced using census data; an accounting of the recipients and users of these products; and a record of inquiries addressed.

• Maintain frequent contact and communication with the CICs by conducting periodic conference calls to continually assess the status of CIC participation and to share new information about programs or activities.

• Reserve the right to terminate the relationship if the CICs are not meeting the program requirements.

D. Suggested Proposal Format, Content, and Submission Instructions

The suggested format below encourages applicants to describe their data dissemination plans, community outreach and record of service to underserved populations, research and data use capability and expertise, and past experience working with the Census Bureau. Applicants are not required, however, to use the suggested format.

1. Proposal Format

The following is the suggested format, which should include the following information:

• Organizations should submit one original and one copy of their proposal in response to this solicitation. An original signature transmittal letter should be included at the beginning of the original proposal and proposal copy, transmitting the proposal to the official identified in the ADDRESSES section of this notice.

• Proposals should not exceed 10 pages. This does not include the transmittal letter.

• Proposals should be in English. Proposal pages should be submitted on 8½ by 11 inch paper with printing on only one side (single sided). The information should be double-spaced. The typewritten or printed letters should be Times New Roman or similar type, 12 point.

2. Proposal Content

Each proposal should include the following: a description of your organization, program summary, and program requirements (4 components).

a. Description of Your Organization: This section should include background information about your organization, including history, mission, programs, services, constituency, etc.

b. Program Summary: The program summary should include a brief description of the opportunities and challenges, goals and objectives, and primary focus of your CIC Program. It also should detail how your organization will use census data to benefit underserved communities. The program summary should include a brief description of research or data products you are contemplating and any specific areas of application for your research, especially as it relates to underserved communities.

c. Program Requirements: In this section, you should respond to each of the following components:

i. Data Dissemination Plans: Describe how your organization will disseminate census data to underserved communities and populations. How will your organization make census information, data, and reports available to local communities and data users served by your organization? How will you provide data and information to data users without Internet access? How will you provide assistance to data users who need help interpreting and understanding the uses and/or implications of census data?

ii. Community Outreach and Record of Service to Underserved Communities: Provide a brief statement of your organization's focus as it relates to underserved communities. What is the geographic focus of your organization? Be sure to cite specific locations where services are provided. Which underserved populations are serviced by your organization? What types of services do you provide to underserved communities? What is the number of persons served directly by your organization on an annual basis?

iii. Research and Data Use Capability and Expertise: Describe your organization's specific capabilities and expertise in conducting research, using census data or other statistical data. Include information on your publications and current uses of census data. Describe how your organization has used or plans to use census data to benefit underserved communities, neighborhoods and populations. Describe what resources (staff, equipment, time) you will commit to your CIC Program. What plans do you have to obtain the necessary resources to run your CIC?

iv. Past Experience: In what ways has your organization worked with the Census Bureau in the past?

3. Proposal Submission Instructions

Proposals must be received by the date identified in the DATES section of this notice. Submit proposals to the official identified in the ADDRESSES section of this notice.

E. Review, Evaluation, and Notification Process

1. Review Process

Census Bureau staff will initially screen all proposals received in response to this notice for timeliness (received by the due date), completeness (includes transmittal letter with signature and specified number of copies), and adequacy (includes proper format and content).

Following the initial proposal screening process, remaining proposals will be evaluated, scored, and reviewed in the Evaluation Process.

2. Evaluation Process

All proposals will be evaluated on the strength of the responses to the requirements in the content section. In evaluating proposals, the Census Bureau will give the highest consideration to an organization's data dissemination plans. We also will consider the geographic location, focus, and diversity of organizations to ensure that underserved communities in particular locations have access to census information. Proposals will be reviewed by an evaluation panel of five to seven members with at least three members from outside the Census Bureau who have knowledge and understanding of the CIC Program.

The evaluation factors will be:

• Data dissemination plans (40 points).

• Research and data use capabilities and expertise (35 points).

• Outreach and record of service to underserved communities (20 points).

• Past experience with the Census Bureau (5 points).

A program officer assigned to the proposal review process will consider the advice of the Evaluation Panel and will formulate recommendations for the Selection Panel. The Selection Panel will make final decisions on who will be included in the CIC Program.

3. Notification Process

Organizations selected to participate in the CIC Program will be notified in writing by August 31, 2000. The Census Bureau Program Office administering the program will advise organizations whose proposals are declined as promptly as possible.

4. New Participant Information

New participants will be invited to attend a Census Bureau sponsored orientation and training conference tentatively scheduled for September 27-29, 2000.

Paperwork Reduction Act

Notwithstanding any other provision of law, no person is required to respond to, nor shall a person be subject to, the requirements of the Paperwork Reduction Act unless that collection of information displays a current valid OMB Control Number. Send comments regarding the burden estimate or any other aspect of this collection of information, including suggestions for reducing this burden, to the Bureau of Census Desk Officer, Office of Information and Regulatory Affairs, Office of Management and Budget, Washington, D.C. 20503.

Dated: April 20, 2000.
Kenneth Prewitt,
Director, Bureau of the Census.

[FR Doc. 00-10371 Filed 4-28-00; 8:45 am]

BILLING CODE 3510-07-P